FEDERAL MARITIME COMMISSION

Notice of Request for Additional Information

The Commission gives notice that it has requested that the parties to the below identified agreement modification provide additional information pursuant to section 6(d) of the Shipping Act of 1984, 46 U.S.C. app. 1701 et seq. The Commission has determined that further information is necessary to evaluate the implications of the proposed modification. This action may prevent the agreement from becoming effective as originally scheduled.

Agreement No.: 011548-005.

Title: Hanjin/SinoTrans Cross Space Charter & Sailing Agreement.

Parties: Hanjin Shipping Co., Ltd. Sinotrans Container Lines, Co., Ltd.

Dated: January 4, 2002.
By Order of the Federal Maritime Commission.
Theodore A. Zook,
Assistant Secretary.

[FR Doc. 02-560 Filed 1-8-02; 8:45 am]

BILLING CODE 6730-01-P